SMALL BUSINESS ADMINISTRATION

Advisory Committee on Veterans Business Affairs; Meeting

AGENCY: Small Business Administration.

ACTION: Notice of Open Federal Advisory Committee Meeting.

SUMMARY: The SBA is issuing this notice to announce the location, date, time, and agenda for the next meeting of the Advisory Committee on Veterans Business Affairs. The meeting will be open to the public.

DATES: March 26, 2012 from 9 a.m. to 5 p.m. in the Eisenhower Conference room, side B, located on the 2nd floor.

ADDRESSES: U.S. Small Business Administration, 409 3rd Street SW., Washington, DC 20416.

SUPPLEMENTARY INFORMATION: Pursuant to section 10(a) (2) of the Federal Advisory Committee Act (5 U.S.C., Appendix 2), SBA announces the meeting of the Advisory Committee on Veterans Business Affairs. The Advisory Committee on Veterans Business Affairs serves as an independent source of advice and policy recommendation to the Administrator of the U.S. Small Business Administration.

The purpose of this meeting is scheduled as a full committee meeting. It will focus on strategic planning, updates on past and current events, and the ACVBA's objective for 2012. For information regarding our veterans' resources and partners, please visit our Web site at www.sba.gov/vets.

Further Information: The meeting is open to the public. Anyone wishing to attend this meeting or to make a presentation to the Advisory Committee on Veterans Business Affairs, advance notice is requested. Please contact Cheryl Simms, Program Liaison, at the U.S. Small Business Administration, Office of Veterans Business Development, 409 3rd Street SW., Washington, DC 20416; Telephone number: (202) 619-1697; Fax number (202) 481-6085 or by email at cheryl.simms@sba.gov.

If you require accommodations because of a disability, please contact the Office of Veterans Business Development at (202) 205-6773 at least two weeks in advance.

Dated: March 14, 2012.
Dan S. Jones,
SBA Committee Management Officer.

[FR Doc. 2012-6978 Filed 3-23-12; 8:45 am]

BILLING CODE 8025-01-P